DEPARTMENT OF THE TREASURY

Departmental Offices; Privacy Act of 1974, as Amended; System of Records Notice

AGENCY: Departmental Offices, Treasury.

ACTION: Notice of system of records.

SUMMARY: In accordance with the Privacy Act of 1974, as amended, 5 U.S.C. 552a, the Department of the Treasury gives notice that it proposes to add a new system of records to its inventory, “Treasury/DO. 411—Intelligence Enterprise Files,” to be maintained by the Office of Intelligence and Analysis.

DATES: Comments must be received no later than October 27, 2014. This new system of records will be effective October 31, 2014 unless the Department receives comments that would result in a contrary determination.

ADDRESSES: Written comments should be sent to the Director of Intelligence Information Systems, Office of Intelligence and Analysis, Department of the Treasury, 1500 Pennsylvania Ave. NW., Washington, DC 20220. The Department will make such comments available for public inspection and copying in the Department's Library, Room 1020, Annex Building, 1500 Pennsylvania Ave. NW., Washington, DC 20220, on official business days between the hours of 10:00 a.m. and 5:00 p.m. Eastern Standard Time. You must make an appointment to inspect comments by telephoning (202) 622-0990. All comments received, including attachments and other supporting materials, are part of the public record and subject to public disclosure. You should submit only information that you wish to make available publicly.

FOR FURTHER INFORMATION CONTACT: Director of Intelligence Information Systems, Office of Intelligence and Analysis, Department of the Treasury, at (202) 622-1826, facsimile (202) 622-1829, or email OIAExec@treasury.gov.

SUPPLEMENTARY INFORMATION: The Treasury Department's mission is to maintain a strong economy and create economic and job opportunities by promoting the conditions that enable economic growth and stability at home and abroad; strengthen national security by combating threats and protecting the integrity of the financial system; and manage the United States Government's finances and resources effectively. Through Executive Order 12333, the Department is specifically tasked with the collection (overtly or through publicly available sources) of foreign financial information and, in consultation with the Department of State, foreign economic information.

In 2004 and 2005, Congress ratified a realignment of the Treasury Department's intelligence function with the statutory creation of the Office of Intelligence and Analysis (OIA) within the Office of Terrorism and Financial Intelligence. In ratifying this realignment, Congress recognized the need for intelligence support and expertise in the Department's national security roles. OIA, headed by the Assistant Secretary for Intelligence and Analysis, became the successor to the Special Assistant to the Secretary (National Security) and the Office of Intelligence Support (OIS) within the Department. Pursuant to the National Security Act of 1947, as amended and Executive Order 12333, as amended, OIA is an element of the national Intelligence Community. OIA has statutory responsibility for the receipt, analysis, collation, and dissemination of intelligence and counterintelligence information related to the operations and responsibilities of the entire Department, including all components and bureaus. OIA's functions under 31 U.S.C. 311 and 312 include: carrying out its responsibilities while building a robust analytical capability on terrorist financing; coordinating and overseeing the work of intelligence analysts in all Treasury Department components; focusing intelligence efforts on the highest priorities of the Department; ensuring that the intelligence needs of the Office of Foreign Assets Control (OFAC) and the Financial Crimes Enforcement Network (FinCEN) are met; providing intelligence support to senior Department officials on a wide range of international economic and other relevant issues; carrying out the intelligence support functions previously assigned to OIS; serving in a liaison capacity with the intelligence community; and representing the Department in a variety of intelligence-related activities.

This system of records supports OIA in performing its roles of collecting (overtly and through publicly-available sources), collating, analyzing, producing, and disseminating national security information. It encompasses diverse national security information related to OIA's mission, including that presently located throughout the Departmental Offices Local Area Network, Treasury Secure Data Network, and the Treasury Financial Intelligence Network. The system may include records from other systems of records, such as those of FinCEN and OFAC, obtained in the course of OIA's duties. In maintaining its records, OIA is obligated to comply with generally-applicable laws such as the Privacy Act of 1974, 5 U.S.C. 552a, and the Internal Revenue Code, as well as with those obligations required of an Intelligence Community element pursuant to Executive Order 12333, as amended. Any information from a system of records for which an exemption is claimed under 5 U.S.C. 552a(j) or (k), and which may also be included in this system of records, retains the same exempt status such information has in the system for which such exemption is claimed.

Notwithstanding provisions of the Privacy Act, as a member of the Intelligence Community OIA also conducts its mission in conformance with the requirements of Executive Order 12333, as amended, including its requirements governing the collection, retention, and dissemination of information concerning U.S. persons in a manner that protects the privacy and constitutional rights of such persons. Accordingly, OIA may acquire information that identifies a particular U.S. person, retain it within or disseminate it from the system of records, as appropriate, only when it is determined that the U.S. person information is necessary for the conduct of OIA's mission, responsibilities, and functions and otherwise falls into one of a limited number of authorized categories.

In a notice of proposed rulemaking, which is published separately in the Federal Register, the Department is proposing to exempt records maintained in this system from certain Privacy Act requirements pursuant to 5 U.S.C. 552a(k).

As required by 5 U.S.C. 552a(r) of the Privacy Act, a report on this new system of records has been provided to the United States House of Representatives Committee on Oversight and Government Reform, the United States House of Representatives Permanent Select Committee on Intelligence, the United States Senate Committee on Homeland Security and Governmental Affairs, the United States Senate Select Committee on Intelligence, and the Office of Management and Budget.

The proposed new system of records, entitled “Treasury/DO. 411—Intelligence Enterprise Files,” is published in its entirety below.

Dated: September 11, 2014.
Helen Goff Foster,
Deputy Assistant Secretary for Privacy, Transparency, and Records.

Treasury/DO. 411

System name:

Intelligence Enterprise Files.

System location:

The Office of Intelligence and Analysis (OIA), Department of the Treasury, Washington, DC. The system may be accessed by Departmental personnel in other components of the Treasury Department with the permission of OIA, provided that such personnel are determined by OIA to have the requisite security clearance and the need to know information maintained in the system.

Categories of individuals covered by the system:

(1) Individuals related to:

A. The capabilities, intentions, or activities of foreign governments or elements thereof, foreign organizations, foreign persons, international terrorists, international narcotics traffickers, members of transnational criminal organizations, proliferators of weapons of mass destruction, and their associates, supporters, and facilitators;

B. Foreign financial and economic activities pertaining to national security;

C. Activities constituting a threat to the national security, foreign policy, or the economy of the United States, or that are preparatory to, facilitate, or support such activities, including:

i. Financial crimes, including money laundering, unlicensed money transmission, evading reporting requirements, access device fraud, financial institution fraud, and activities affecting the safety or soundness of financial institutions, in accordance with Title 18 and Title 31 of the United States Code;

ii. Suspicious financial transactions and other data required to be reported by the Bank Secrecy Act, 31 U.S.C. 5311 et seq., because they have a high degree of usefulness in the conduct of intelligence or counterintelligence activities or for other national security purposes;

iii. Transactions related to individuals subject to or under consideration for the imposition of economic sanctions;

iv. Activities that could reasonably be expected to assist in the development of a weapon of mass destruction, including attempts to import, procure, possess, store, develop, or transport nuclear or radiological material;

v. Activities against or threats to the United States or U.S. persons and interests by foreign or international terrorist groups or individuals involved in terrorism;

vi. Activities to identify, create, exploit, or undermine vulnerabilities of the Treasury Department's information systems and national security systems infrastructure;

vii. Activities, not wholly conducted within the United States, which violate or may violate the laws that prohibit the production, transfer, or sale of narcotics or substances controlled in accordance with Title 21 of the United States Code, or those associated activities otherwise prohibited by Titles 21 and 46 of the United States Code;

viii. Activities, not wholly conducted within the United States, which otherwise violate or may violate United States or foreign criminal laws;

ix. Activities, not wholly conducted within the United States, that constitute genocide, mass atrocities, or other grave breaches of human rights;

x. Activities that impact or concern the security, safety, and integrity of our international borders, such as those that may constitute violations of the immigration or customs laws of the United States;

D. Espionage, the improper release of sensitive or classified information, sabotage, assassination, or other intelligence activities conducted by or on behalf of foreign powers, organizations, persons, or their agents, or international terrorist organizations, international narcotics traffickers, members of transnational criminal organizations, proliferators of weapons of mass destruction, and their associates, supporters, and facilitators;

E. Activities where the health or safety of an individual may be threatened;

F. Information necessary for the provision of intelligence support to the Treasury Department.

(2) Individuals who voluntarily request assistance or information, through any means, from OIA, and individuals who consent to providing information, which may relate to a threat or otherwise affect the national security of the United States.

(3) Individuals who are or have been associated with Treasury Department or OIA activities or with the administration of the Department of the Treasury, including information about individuals that is otherwise required to be maintained by law.

Categories of records in the system:

(1) Records containing classified and unclassified intelligence information, counterintelligence information, counterterrorism information, and information, including records pertaining to law enforcement that are related to national security. This includes source records and other forms of “raw” intelligence as well as the analysis of this information, obtained from all entities of the Federal government, including the Intelligence Community; foreign governments, persons, or other entities including international organizations; and state, local, tribal, and territorial government agencies.

(2) Records containing information pertaining to OIA's responsibilities overtly collected from record subjects, individual members of the public, and private sector entities.

(3) Records containing information reported pursuant to and maintained consistent with the Bank Secrecy Act.

(4) Records containing information pertaining to the imposition and enforcement of economic sanctions, including reports pursuant to chapter V of Title 31, Code of Federal Regulations, and information provided through license applications, requests to have funds unblocked, and requests for reconsideration of a designation.

(5) Records containing information obtained from Intelligence Community elements or other entities about individuals who are or may be engaged in activities related to terrorism, transnational narcotics trafficking, transnational criminal organizations, the proliferation of weapons of mass destruction, or other threats to the national security, economy, or foreign policy of the United States.

(6) Records containing law enforcement or other information received from other government agencies pertaining to potential threats to the national security, the economy, or foreign policy of the United States.

(7) Records containing operational and administrative records, including correspondence records.

(8) Records containing information related to or obtained to ensure the security of the Treasury Department, including through authorized physical, personnel, information systems security, and insider threat investigations, inquiries, analysis, and reporting.

(9) Records contain publicly available information, related to lawful OIA activities, about individuals as derived from media, including periodicals, newspapers, broadcast transcripts, and other public reports and computer databases, including those available by subscription to the public.

(10) Records about individuals who voluntarily provide any information contained within the system.

Authority for maintenance of the system:

5 U.S.C. 301; 31 U.S.C. 311-312; Executive Orders 12333, 12968, 13388, and 13526, as amended.

Purpose(s):

The records in this system will be used to fulfill OIA's statutory and Executive Order mandates to collect (overtly or through publicly-available sources), receive, analyze, collate, produce, and disseminate information, intelligence, and counterintelligence related to the operations and responsibilities of the entire Department, including all components and bureaus. The system will allow OIA to carry out its functions of discharging its responsibilities while building a robust analytical capability on terrorist financing; coordinating and overseeing the work of intelligence analysts in Treasury Department components; focusing intelligence efforts on the highest priorities of the Department; ensuring that the intelligence needs of OFAC and FinCEN are met; and providing intelligence support to senior Department officials on a wide range of international economic and other relevant issues.

Routine uses of records maintained in the system, including categories of users and the purposes of such uses:

These records may be used to disclose pertinent information to:

(1) Any United States, foreign, or multinational government or agency, or private sector individual or organization, with responsibilities relating to the national security, economy, or foreign policy of the United States, including responsibilities related to the implementation of or compliance with applicable authorities, to analyze, counter, deter, or prevent threats related to foreign intelligence or counterintelligence activities, terrorism, international narcotics traffickers, transnational criminal organizations, or proliferators of weapons of mass destruction;

(2) Any United States, foreign, or multinational government or agency with the responsibility and authority for investigating, prosecuting, or otherwise enforcing a civil or criminal law, regulation, rule, order, or contract, where the information on its face or when combined with other information indicates a potential violation of any such law, regulation, rule, order, or contract enforced by that government or agency;

(3) Any Federal banking agency when OIA believes that the information raises significant concerns regarding the safety or soundness of any depository institution doing business in the United States;

(4) Any United States agency, including Federal banking agencies, where the information is relevant to such agency's supervisory responsibilities;

(5) Any United States, foreign, or multinational government or agency, or other entity, including private sector individuals and organizations, where disclosure is in furtherance of the Treasury Department's or OIA's information-sharing responsibilities under the National Security Act of 1947, as amended, the Intelligence Reform and Terrorism Prevention Act of 2004, as amended, Executive Order 12333, as amended, or any successor order, statute, national security directive, intelligence community directive, or other directive, or any classified or unclassified implementing procedures promulgated pursuant to such orders and directives;

(6) Any U.S. agency lawfully engaged in the collection of intelligence (including national intelligence, foreign intelligence, and counterintelligence), counterterrorism, national security, law enforcement or law enforcement intelligence, or other information, where disclosure is undertaken for intelligence, counterterrorism, national security, insider threat, or related law enforcement purposes, as authorized by United States law or Executive orders;

(7) Any other element of the Intelligence Community, as defined by Executive Order 12333, as amended, or any successor order, for the purpose of allowing that agency to determine whether the information is relevant to its responsibilities and can be retained by it;

(8) Any United States, foreign, or multinational government or agency, or private sector individual or organization, with responsibility for imposing and enforcing economic sanctions or for complying with or implementing economic sanctions, for the purpose of carrying out such responsibility;

(9) Any United States agency with responsibility for activities related to counterintelligence or the detection of insider threats, for the purpose of conducting such activities;

(10) Any United States, foreign, or multinational government or agency, if the information is relevant to the requesting entity's decision or to a Treasury Department decision concerning the hiring or retention of an individual, or issuance of a security clearance, license, contract, grant, or other benefit;

(11) Any foreign persons or foreign government agencies, international organizations, and multinational agencies or entities, including private entities, under circumstances or for purposes mandated by, imposed by, or conferred in, Federal statute, treaty, or other international agreement or arrangement in accordance with OIA's authorities;

(12) Any individual, organization, or entity, as appropriate, for the purpose of guarding it against or responding to an actual or potential serious threat, to the extent the information is relevant to the protection of life, health, or property;

(13) Representatives of the Department of Justice or other United States entities, to the extent necessary to obtain their advice on any matter that is within their official responsibilities to provide;

(14) Any Federal agency, a court, or a party in litigation before a court or in an administrative proceeding being conducted by a Federal agency, when the Federal Government is a party to the judicial or administrative proceeding. In those cases where the Federal Government is not a party to the proceeding, records may be disclosed pursuant to a subpoena by a court, agency, or other entity of competent jurisdiction where arguably relevant to a proceeding or in connection with a criminal proceeding;

(15) The Department of Justice (DOJ) for the purpose of receiving legal advice and representation;

(16) Contractors, grantees, experts, consultants, interns, volunteers and others (including agents of the foregoing) performing or working on a contract, service, grant, cooperative agreement, or other assignment for the Treasury Department, when necessary to accomplish such function;

(17) Individual members or staff of the United States Senate Select Committee on Intelligence, the United States Senate Committee on Banking, Housing, and Urban Affairs, the United States House Permanent Select Committee on Intelligence, and the United States House Committee on Financial Services in connection with the exercise of their oversight and legislative functions;

(18) The National Archives and Records Administration (NARA), for the purpose of records management;

(19) Any agency, organization, or individual for the purposes of performing audit or oversight of the Treasury Department or OIA, as authorized by law and as necessary and relevant to such audit or oversight function;

(20) The President's Foreign Intelligence Advisory Board, the Intelligence Oversight Board, any successor organizations, and any intelligence or national security oversight entities established by the President, when the Assistant Secretary for Intelligence and Analysis determines that disclosure will assist these entities in the performance of their oversight functions;

(21) Agencies, entities, and persons when: (1) The Treasury Department suspects or has confirmed that the security or confidentiality of information in the system of records has been compromised; (2) the Department has determined that as a result of the suspected or confirmed compromise there is a risk of harm to economic or property interests, identity theft or fraud, or harm to the security or integrity of this system or other systems or programs (whether maintained by the Department or another agency or entity) that rely upon the compromised information; and (3) the disclosure made to such agencies, entities, and persons is reasonably necessary to assist in connection with the Department's efforts to respond to the suspected or confirmed compromise and prevent, minimize, or remedy such harm.

Policies and practices for storing, retrieving, accessing, retaining, and disposing of records in the system:

Storage:

Records in this system are stored electronically or on paper in secure facilities. The records are stored in file folders or on magnetic discs, tapes, or electronic media.

Retrievability:

Data may be retrieved by an individual's name or other identifier, such as Social Security number, phone number, or case number.

Safeguards:

Records in electronic and physical form in this system are maintained in secure facilities protected by appropriate physical and technological safeguards with access limited by password or access code only to authorized personnel. Records in this system are safeguarded in accordance with applicable laws, rules, and policies, including Intelligence Community standards, Treasury Department information technology security policies, and the Federal Information Security Management Act. Classified information is stored appropriately in a secured, certified, and accredited facility, in secured databases and containers, and in accordance with other applicable requirements, including those pertaining to classified information. The system incorporates logging functions that facilitate the auditing of individual use and access.

Retention and disposal:

Records will be retained and disposed of in accordance with a records retention and disposal schedule to be submitted to and approved by NARA.

System manager(s) and address:

Director of Intelligence Information Systems, Office of Intelligence and Analysis, Department of the Treasury, 1500 Pennsylvania Ave. NW., Washington, DC 20220.

Notification procedure:

This system of records contains classified and controlled unclassified information related to intelligence, counterintelligence, national security, and law enforcement programs. As a result, records in this system have been exempted from notification, access, and amendment to the extent permitted by the Privacy Act, 5 U.S.C. 552a(k).

In accordance with 31 CFR Part 1, subpart C, Appendix A, individuals wishing to be notified if they are named in non-exempt records in this system of records, to gain access to such records maintained in this system, or seek to contest the content of such records, must submit a written request containing the following elements: (1) Identify the record system; (2) identify the category and type of records sought; and (3) provide at least two items of secondary identification. Address inquiries to: Privacy Act Request, DO, Director, Disclosure Services, Department of the Treasury, 1500 Pennsylvania Ave. NW., Washington, DC 20220.

Record access procedures:

See “NOTIFICATION PROCEDURES” above.

Contesting record procedures:

See “NOTIFICATION PROCEDURES” above.

Record source categories:

Information contained in this system is obtained from individuals; other government, non-government, commercial, public, and private agencies and organizations, both domestic and foreign; media, including periodicals, newspapers, broadcast transcripts, and publicly-available databases; intelligence source documents; investigative reports; and correspondence.

Exemptions claimed for the system:

Records in this system related to classified and controlled unclassified information related to intelligence, counterintelligence, national security, and law enforcement programs are exempt from 5 U.S.C. 552a(c)(3), (d)(1), (d)(2), (d)(3), (d)(4), (e)(1), (e)(4)(G), (e)(4)(H), (e)(4)(I), and (f) of the Privacy Act pursuant to 5 U.S.C. 552a(k)(1). See 31 CFR 1.36.

[FR Doc. 2014-23009 Filed 9-25-14; 8:45 am]

BILLING CODE 4810-25-P